GENERAL SERVICES ADMINISTRATION

[OMB Control No. 3090-XXXX; Docket No. 2023-0001; Sequence No. 1]

Information Collection; Overseas Employment Agreement; GSA Form 5040

AGENCY: Office of Human Resource Management, Division of Human Capital Policy and Programs, General Services Administration (GSA).

ACTION: Notice of request for comments regarding a request for a new OMB clearance.

SUMMARY: Under the provisions of the Paperwork Reduction Act, the Regulatory Secretariat Division will be submitting to the Office of Management and Budget (OMB) a request to review and approve a new information collection requirement.

DATES: Submit comments on or before April 17, 2023.

ADDRESSES: Submit comments identified by Information Collection 3090-XXXX; Overseas Employment Agreement; GSA Form 5040 to: http://www.regulations.gov.

Submit comments via the Federal eRulemaking portal by searching for “Information Collection 3090-XXXX; Overseas Employment Agreement; GSA Form 5040”. Select the link “Submit a Comment” that corresponds with “Information Collection 3090-XXXX; Overseas Employment Agreement; GSA Form 5040”. Follow the instructions provided at the “Submit a Comment” screen. Please include your name, company name (if any), and “Information Collection 3090-XXXX; Overseas Employment Agreement; GSA Form 5040” on your attached document. If your comment cannot be submitted using https://www.regulations.gov, call or email the points of contact in the FOR FURTHER INFORMATION CONTACT section of this document for alternate instructions.

Instructions: Please submit comments only and cite Information Collection 3090-XXXX; Overseas Employment Agreement; GSA Form 5040, in all correspondence related to this collection. Comments received generally will be posted without change to http://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Division of Human Capital Policy and Programs, at telephone 240-418-6822 or via email to colin.bennett@gsa.gov for clarification of content.

SUPPLEMENTARY INFORMATION:

A. Purpose

The General Services Administration routinely hires, reassigns, promotes or transfers Federal employees to duty stations in foreign areas (i.e., outside of the United States and its territories and possessions). Under the Administrative Expenses Act of 1946 (60 Stat. 808), as amended, agencies are permitted to use appropriated funds to pay for the various costs incurred for permanent change of station (PCS) to the foreign area (see further 5 U.S.C. 5722 et. seq.). Such costs include: (1) travel expenses of the new appointee (or employee) and transportation expenses of his or her immediate family and his household goods and personal effects from the place of actual residence at the time of appointment to the place of employment outside the continental United States; (2) these expenses on the return of an employee from his post of duty outside the continental United States to the place of his actual residence at the time of assignment to duty outside the continental United States; and (3) the expenses of transporting a privately owned motor vehicle as authorized under 5 U.S.C. 5727(c). Under this authority, in return for this travel and transportation benefit, the appointee (or employee) must remain in the agency's service for 12 months (1 year). More information concerning this statutory requirement is found within the GSA Government Travel Regulations at 41 CFR part 302-3, subpart F.

In order to more effectively memorialize the agency costs incurred, and the appointee's (or employee's) resulting service obligation, GSA has re-developed its existing form GSA 5040. The intent is for this form to be used: (1) as an information collection device to memorialize compensation, foreign allowance, and travel and transportation benefits provided, and (2) as an enforceable service agreement for PCS travel and transportation costs, pursuant to the Federal Claims Collection Act of 1966 and the Debt Collection Act Amendments of 1996 (see further 31 U.S.C. 3711 et. seq.)

B. Annual Reporting Burden

Respondents: 25 per year.

Responses per Respondent: 1.

Total Annual Responses: 25.

Hours per Response: 1.

Total Burden Hours: 25.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. 3090-XXXX, Overseas Employment Agreement; GSA Form 5040, in all correspondence.

Beth Anne Killoran,
Deputy Chief Information Officer.

[FR Doc. 2023-03131 Filed 2-13-23; 8:45 am]

BILLING CODE 6820-FM-P